DEPARTMENT OF COMMERCE

International Trade Administration

[A-570-881]

Certain Malleable Cast Iron Pipe Fittings From the People's Republic of China: Final Results of Expedited Third Sunset Review of the Antidumping Duty Order

AGENCY: Enforcement and Compliance, International Trade Administration, Department of Commerce.

SUMMARY: As a result of this sunset review, the Department of Commerce (Commerce) finds that revocation of the antidumping duty (AD) order on certain malleable cast iron pipe fittings from the People's Republic of China (China) would be likely to lead to continuation or recurrence of dumping at the dumping margins identified in the “Final Results of Review” section of this notice.

DATES: Applicable November 1, 2019].

FOR FURTHER INFORMATION CONTACT: Laura Griffith, AD/CVD Operations, Office III, Enforcement and Compliance, International Trade Administration, U.S. Department of Commerce, 1401 Constitution Avenue NW, Washington, DC 20230; telephone: (202) 482-6430.

SUPPLEMENTARY INFORMATION:

Background

On July 1, 2019, Commerce published the notice of initiation of the third sunset review of the Order on malleable pipe fittings from China, pursuant to section 751(c)(2) of the Tariff Act of 1930, as amended (the Act).¹ On July 9, 2019, Commerce received a notice of intent to participate from the domestic interested parties within the deadline specified in 19 CFR 351.218(d)(1)(i).²

On July 31, 2019, Commerce received complete substantive responses from the domestic interested parties within the 30-day deadline specified in 19 CFR 351.218(d)(3)(i).³ We did not receive any responses from respondent interested parties in this proceeding. As a result, pursuant to 19 CFR 351.218(e)(1)(ii)(C)(2), Commerce conducted an expedited (120-day) sunset review of the Order.

¹ See Initiation of Five-Year (Sunset) Reviews, 84 FR 31304 (July 1, 2019).

² See Domestic Interested Parties' Letter, “Malleable Cast Iron Pipe Fittings from China, Third Sunset Review: Notice of Intent to Participate,” dated July 9, 2019.

³ See Domestic Interested Parties' Letter, “Malleable Cast Iron Pipe Fittings from China, Third Sunset Review: Substantive Response to Notice of Initiation,” dated July 31, 2019.

Scope of the Order

The products covered by the Order are certain malleable iron pipe fittings, cast, other than grooved fittings, from the People's Republic of China. The merchandise is currently classifiable under item numbers 7307.19.30.60, 7307.19.30.85, 7307.19.90.30, 7307.19.90.60, 7307.19.90.80, and 7326.90.86.88 of the Harmonized Tariff Schedule of the United States (HTSUS). Excluded from the scope of this order are metal compression couplings, which are imported under HTSUS number 7307.19.90.80. A metal compression coupling consists of a coupling body, two gaskets, and two compression nuts. These products range in diameter from ½ inch to 2 inches and are carried only in galvanized finish. Although HTSUS subheadings are provided for convenience and customs purposes, Commerce's written description of the scope of the order is dispositive.

Analysis of Comments Received

Commerce addressed all issues raised in this sunset review in the Issues and Decision Memorandum, which is hereby adopted by this notice.⁴ A list of the issues discussed in the Issues and Decision Memorandum is attached at Appendix. The Issues and Decision Memorandum is a public document and is on file electronically via Enforcement and Compliance's Antidumping and Countervailing Duty Centralized Electronic Service System (ACCESS). ACCESS is available to registered users at https://access.trade.gov and to all parties in the Central Records Unit, Room B8024 of the main Commerce building. In addition, a complete version of the Issues and Decision Memorandum can be accessed at http://enforcement.trade.gov/frn/. The signed Issues and Decision Memorandum and the electronic version of the Issues and Decision Memorandum are identical in content.

⁴ See Memorandum, “Issues and Decision Memorandum for the Final Results of the Expedited Third Sunset Review of the Antidumping Duty Order on Malleable Cast Iron Pipe Fittings from the People's Republic of China,” dated concurrently with, and hereby adopted by, this notice (Issues and Decision Memorandum).

Final Results of Review

Pursuant to sections 751(c)(1) and 752(c)(1) and (3) of the Act, Commerce determines that revocation of the Order would be likely to lead to continuation or recurrence of dumping, and that the magnitude of the dumping margins likely to prevail would be weighted-average dumping margins up to 111.36 percent.

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these results and notice in accordance with sections 751(c), 752, and 777(i)(1) of the Act and 19 CFR 351.218.

Dated: October 28, 2019.
Jeffrey I. Kessler,
Assistant Secretary for Enforcement and Compliance.

Appendix

List of Topics Discussed in the Issues and Decision Memorandum

I. Summary

II. Background

III. Scope of the Order

IV. History of the Order

V. Legal Framework

VI. Discussion of the Issues

1. Likelihood of Continuation of Recurrence of Dumping

2. Magnitude of the Margin Likely to Prevail

VII. Final Results of Third Expedited Sunset Review

VIII. Recommendation

[FR Doc. 2019-23902 Filed 10-31-19; 8:45 am]

BILLING CODE 3510-DS-P